DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: National Sample Survey of Nurse Practitioners (OMB No. 0915-xxxx)-[NEW]

The number of Nurse Practitioners (NP) in the United States has been growing rapidly over the past decade and continued growth is expected as the annual number of graduates of NP programs is at an all time high. Furthermore, over the past 20 years, many regulatory and financial barriers to using NPs have been removed. The expansion of health insurance under the Patient Protection and Affordable Care Act of 2010 (Pub. L. 111-148) will also increase the demand for services. With increasing numbers, NPs are poised to play a critical role in the nation's efforts to expand access to health care services.

Despite the increasing number and role of NPs, unfortunately, there is currently only limited, inconsistent data available to policy makers and the health care community. Accordingly, it is difficult for these leaders to quantify or fully understand the role of NPs in the current or future health care system. In fact, it is difficult to project with confidence the number of NPs practicing in the United States today.

The primary purpose of the Bureau of Health Professions' National Sample Survey of Nurse Practitioners data collection is to: (1) Improve estimates of NPs providing services; (2) describe the settings where NPs are working; (3) identify the positions/roles in which NPs are working; (4) describe the activities and services NPs are providing in the healthcare workforce; (5) determine the specialties in which NPs are working; (6) explore NPs' satisfaction with and perception of the extent to which they are working to their full scope of practice; and (7) assess variations in practice settings, positions, and practice patterns by demographic and educational characteristics.

The statutory provision that authorizes this data collection is section 761 of the Public Health Service Act, “Health Professions Workforce Information and Analysis,” which is codified at 42 U.S.C. 294n. The information obtained from this survey will ultimately lead to more accurate and complete national estimates of the current NP supply, as well as assist in the development of more accurate supply and demand projections for NPs. This, in turn, is likely to influence decisions regarding both the educational capacity and the number of NP programs at the national level.

The annual estimate of burden is as follows:

Instrument | Number of respondents | Responses per respondent | Total responses | Hours per response | Total burden hours
National Sample Survey of Nurse Practitioners | 10,000 | 1 | 10,000 | .33 | 3,300
Total | 10,000 |  | 10,000 |  | 3,300

E-mail comments to paperwork@hrsa.gov or mail the HRSA Reports Clearance Officer, Room 10-33, Parklawn Building, 5600 Fishers Lane, Rockville, MD 20857. Written comments should be received within 60 days of this notice.

Dated: August 2, 2011.
Reva Harris,
Acting Director, Division of Policy and Information Coordination.

[FR Doc. 2011-20000 Filed 8-5-11; 8:45 am]

BILLING CODE 4165-15-P